DEPARTMENT OF THE TREASURY

Office of the Comptroller of the Currency

12 CFR Part 8

[Docket No. 01-05]

RIN 1557-AB90

Assessment of Fees; National Banks; District of Columbia Banks

Correction

In proposed rule document 01-8204 beginning on page 17821 in the issue of Wednesday, April 4, 2001, make the following correction:

On page 17822, in the third column, the table should read:

If the bank's total off-balance sheet receivables attributable are: Over | If the bank's total off-balance sheet receivables attributable are: But less than | The additional semiannual assessment is:
Column A Million | Column B Million | Column C
$0 | $100 | $40,000
100 | 1000 | $60,000
1000 | 5000 | $80,000
5000 |  | $100,000

[FR Doc. C1-8204 Filed 4-25-01; 8:45 am]

BILLING CODE 1505-01-D